DEPARTMENT OF COMMERCE

National Oceanic and Atmospheric Administration

RIN 0648-XG823

Gulf of Mexico Fishery Management Council; Public Meeting

AGENCY: National Marine Fisheries Service (NMFS), National Oceanic and Atmospheric Administration (NOAA), Commerce.

ACTION: Notice of a public meeting (webinar).

SUMMARY: The Gulf of Mexico Fishery Management Council will convene a public hearing via webinar to discuss Shrimp Amendment 18—Evaluation of Shrimp Effort Threshold Reduction in the Area Monitored for Juvenile Red Snapper Bycatch.

DATES: The webinar will be held Thursday, March 21, 2019, at 6 p.m. and will conclude no later than 9 p.m.

ADDRESSES: The public hearing meeting will be held via webinar. A public listening station is available at the Gulf Council office (address below).

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION: Council staff will brief the public on the purpose and need of the amendment. The Council is currently considering increasing the amount of shrimp effort allowed in the special area that is monitored for juvenile red snapper bycatch. Analysis shows that the effort reduction threshold, which currently requires that shrimp effort in the area monitored for juvenile red snapper be 67 percent below the effort in the baseline years of 2001-03, can be reduced to 60 percent without affecting the rebuilding of the red snapper stock. The schedule is as follows:

Thursday, March 21, 2019; 6 p.m.-9 p.m.

The meeting will be broadcast via webinar. You may register for the webinar by visiting www.gulfcouncil.org and clicking on the meeting on the calendar. The agenda is subject to change, and the latest version along with other meeting materials will be posted on as they become available.

Dated: February 15, 2019.
Tracey L. Thompson,
Acting Deputy Director, Office of Sustainable Fisheries, National Marine Fisheries Service.

[FR Doc. 2019-02959 Filed 2-20-19; 8:45 am]

BILLING CODE 3510-22-P